FEDERAL COMMUNICATIONS COMMISSION

[EB Docket No. 10-247; DA 11-246]

Shenzhen Tangreat Technology Co., Ltd., Grantee of Equipment Authorization FCC ID No. XRLTG-VIPJAMM

AGENCY: Federal Communications Commission.

ACTION: Notice.

SUMMARY: This document commences a hearing proceeding by directing Shenzhen Tangreat Technology Co., Ltd. (“Shenzhen”), Grantee of Equipment Authorization FCC ID No. XRLTG-VIPJAMM, to show cause why the equipment authorization FCC ID No. XRLTG-VIPJAMM should not be revoked and why a Forfeiture Order in an amount not to exceed one hundred and twelve thousand five hundred dollars ($112,500) should not be issued against Shenzhen for apparent false statements or representations made in either its application for this equipment authorization or in materials or responses submitted therewith; the manufacture and marketing of equipment that does not conform to the pertinent technical requirements or representations made in its application for authorization; and/or changes made in such equipment that are not authorized by the Commission.

DATES: Petitions by parties desiring to participate as a party in the hearing, pursuant to 47 CFR 1.223, may be filed on or before April 7, 2011. See SUPPLEMENTARY INFORMATION section for dates when named parties should file appearances.

ADDRESSES: Please file documents with the Office of the Secretary, Federal Communications Commission, 445 12th Street, SW., Washington, DC 20554. Each document that is filed in this proceeding must display the document number of this hearing, EB Docket No. 10-247, on the front page.

FOR FURTHER INFORMATION CONTACT: Kevin Pittman, Spectrum Enforcement Division, Enforcement Bureau, Federal Communications Commission at (202) 418-1160.

SUPPLEMENTARY INFORMATION: This is the full text of the Order to Show Cause and Notice of Opportunity for Hearing (“Order to Show Cause”), DA 11-246, released February 9, 2011. The full text of the Order to Show Cause is also available for inspection and copying from 8 a.m. until 4:30 p.m., Monday through Thursday or from 8 a.m. until 11:30 a.m. on Friday at the FCC Reference Information Center, Portals II, Room CY-A257, 445 12th Street, SW., Washington, DC 20554. The complete text may be purchased from the Commission's copy contractor, Best Copy and Printing, Inc. (BCPI), Portals II, 445 12th Street, SW., Room CY-B402, Washington, DC 20554, telephone (800) 378-3160, facsimile (202) 488-5563, e-mail FCC@BCPIWEB.com, or you may contact BCPI via its Web site, http://www.bcpiweb.com. When ordering documents from BCPI, please provide the appropriate FCC document number, DA 11-246. The Order to Show Cause is also available on the Internet at the Commission's Web site through its Electronic Document Management System (EDOCS): http://hraunfoss.fcc.gov/edocs_public/. Alternative formats are available to persons with disabilities (Braille, large print, electronic files, audio format); to obtain, please send an e-mail to fcc504@fcc.gov or call the Consumer and Governmental Affairs Bureau at (202) 418-0530 (voice), (202) 418-0432 (TTY).

Order To Show Cause

I. Introduction

1. In this Order to Show Cause, we commence a hearing proceeding pursuant to sections 1.91 and 2.939 of the Commission's rules (“Rules”) ¹ regarding the device manufactured and marketed under FCC ID No. XRLTG-VIPJAMM with the brand name “TxTStopper ™”.² The TxTStopper ™ device was marketed in the United States and apparently has the capability to block, jam, or otherwise interfere with the operation of authorized wireless communications, in violation of sections 302(b) and 333 of the Communications Act of 1934, as amended (“Act”).³ Moreover, based on the evidence, the TxTStopper ™ device marketed under FCC ID No. XRLTG-VIPJAMM is not identical to the device authorized under that FCC ID, in violation of section 2.931 of the Rules.⁴ We further note that jamming devices pose an unacceptable risk to public safety and emergency communications, including interfering with the ability to make 9-1-1 and other emergency calls and hindering law enforcement communications. We therefore direct Shenzhen Tangreat Technology Co., Ltd. (“Shenzhen”) to show cause why the equipment authorization it holds under FCC ID No. XRLTG-VIPJAMM should not be revoked and why a Forfeiture Order in an amount not to exceed one hundred and twelve thousand five hundred dollars ($112,500) should not be issued against Shenzhen for willfully and/or repeatedly violating sections 302(b) and 333 of the Act and sections 2.803, 2.907(b), 2.931, 2.932, 2.936 and 2.946 of the Rules.⁵

¹ 47 CFR 1.91, 2.939.

² Consistent with the Commission's rules and procedures, the portion of the FCC ID describing the relevant product or device (in this case, “TG-VIPJAMM”) is assigned by the grantee or applicant.

³ 47 U.S.C. 302a(b), 333.

⁴ 47 CFR 2.931.

⁵ 47 U.S.C. 302a(b), 333; 47 CFR 2.803, 2.907(b), 2.931, 2.932, 2.936, 2.946. We are simultaneously issuing a citation to Share Enterprises, the company that marketed the TxTStopper ™ device in the United States, for violations of sections 302(b) of the Act and sections 1.17 and 2.803 of the Rules. See Share Enterprises Unlimited, Inc., Citation, DA 11-247, February 9, 2011.

II. Background

2. In response to complaints regarding the marketing of a radio frequency device called the TxTStopper ™ that is advertised as preventing cell phone use in moving motor vehicles, the Spectrum Enforcement Division (“Division”) of the FCC's Enforcement Bureau (“Bureau”) launched an investigation. The Division staff observed that the txtstopper.com Web site describes the TxTStopper ™ as a “state of the art, hard wired mobile electronic device that totally prevents cell phone use while the vehicle is in drive mode.” ⁶ The Web site indicates that the TxTStopper ™ works with any U.S.-based cell phone; that the TxTStopper ™ prevents anyone in the vehicle from making or receiving cell phone calls and sending or receiving text messages or e-mails on their cell phones within the “TXTSafe Zone ™”; and that once installed, the TxTStopper ™ cannot be intentionally or accidentally disabled by the driver.⁷ The Web site also includes testimonials from four individuals located in the United States who apparently purchased the TxTStopper ™ and had the device installed in their motor vehicles.⁸

⁶ TxTStopper ™ Web site, at http://www.txtstopper.com/cms (visited June 29, 2010 and October 18, 2010); see also TxTStopper on CNN at http://www.youtube.com/watch?v=io8AtlGRjpQ.

⁷ See id. at http://www.txtstopper.com/cms/content/faqs (visited June 29, 2010 and October 18, 2010).

⁸ See id. at http://www.txtstopper.com/cms/ (Testimonials from Tina S., Atlanta, GA (“With TxTStopper ™ I can rest easy knowing that [my daughter] won't be distracted by her cell phone while she's behind the wheel.”); Tony W., Canton, GA (“TxTStopper ™ is the only product in the market that totally restricts cell phone use in my son's car * * * and it works like a charm!”); Earnest M., Chicago, IL (“[W]ith the TxTStopper ™ in place, I know [my daughter] is a safer driver.”); Bebe C., Cincinnati, OH (“Thank you TxTStopper ™. I just purchased a unit for my granddaughter's vehicle and it works great!”)) (visited June 30, 2010 and September 8, 2010).

3. On July 20, 2010, the Division issued a letter of inquiry (“LOI”) to Share Enterprises Unlimited, Inc. (“Share”), the company that operates the txtstopper.com Web site.⁹ The LOI directed Share to respond to certain inquiries within 30 days and to ship a sample of the TxTStopper ™ device to the FCC's Office of Engineering and Technology (“OET”) Laboratory for testing within 14 days.¹⁰ Share responded to the LOI on September 6, 2010.¹¹ In its LOI Response, Share stated that it began “market research” of the TxTStopper ™ on July 1, 2010, in response to a new Georgia law that bans texting while driving as well as to other global initiatives intended to eliminate cell phone use while operating a motor vehicle.¹² Share stated that the TxTStopper ™ “by design and function (unidirectional signal) is to be a custom designed in-vehicle accident avoidance/occupant safety system designed to operate in a strictly limited area—ONLY inside an owner's personal vehicle and only when the vehicle is in drive mode.” ¹³ According to Share, only phones inside the vehicle in which the TxTStopper ™ is installed are affected and the TxTStopper ™ creates no outside interference.¹⁴ Share further asserted that the TxTStopper ™ does not interfere with the user's ability to make 9-1-1 calls at any time.¹⁵

⁹ See Letter from Kathryn S. Berthot, Chief, Spectrum Enforcement Division, Enforcement Bureau, Federal Communications Commission, to Terrence Williams, CFO, Share Enterprises Unlimited, Inc. (July 20, 2010).

¹⁰ See id.

¹¹ See Letter from Terrence Williams, Principal, Share Enterprises Unlimited, Inc., to Samantha Peoples, Spectrum Enforcement Division, Enforcement Bureau, Federal Communications Commission (September 6, 2010) (“LOI Response”). On August 18, 2010, the Enforcement Bureau granted Share's request for an extension of time to respond to the LOI, setting a new response date of September 7, 2010.

¹² Id. at 1.

¹³ Id. at 2.

¹⁴ See id.

¹⁵ See id.

4. However, Share did not provide any technical explanation or other evidence to substantiate its claims that the TxTStopper ™ device only affects phones inside the vehicle where the device is installed, that the device does not create interference beyond the vehicle, and that while blocking all cell phone communications, the device nevertheless allows users to make 9-1-1 calls. Instead, Share simply stated that it was not the manufacturer of the device and that it obtained the TxTStopper ™ “beta test units” from a supplier located in China.¹⁶ Share indicated that it had offered only three units of the TxTStopper ™ during its market research efforts and that those three units were shipped directly from the overseas supplier to the end user.¹⁷ Share also claimed that the TxTStopper ™ was certified by the FCC under FCC ID No. XRLTG-VIPJAMM.¹⁸ Finally, Share maintained that it was unable to provide the requested sample of the TxTStopper ™ because research and development and beta testing of the device were ongoing by various manufacturer engineers and a prototype was pending.¹⁹

¹⁶ Id. at 1. Share identified its supplier as Chinazrh International Co., Ltd. (“Chinazrh”). See id. It is unclear what relationship exists between Chinazrh and Shenzhen.

¹⁷ See id. at 2.

¹⁸ See id.

¹⁹ See id.

5. At the Bureau's request, OET subsequently reviewed the equipment certification granted under FCC ID No. XRLTG-VIPJAMM and the underlying application and supporting documents.²⁰ OET observed certain apparent discrepancies between the application, test report, and equipment certification as to the nature and purpose of the device. Specifically, the device approved under the certification, which was issued to Shenzhen ²¹ by a Telecommunications Certification Body (“TCB”) ²² on October 20, 2009, was purportedly a Part 15, Class B computer peripheral.²³ The application for the device also listed the equipment class as “JBP—Part 15 Class B computing peripheral” ²⁴ and included the following description of the product: “computer peripheral for preprocessing data.” ²⁵ Similarly, the test report ²⁶ and other data submitted with the application for this device show that the device was tested when connected to a personal computer and the AC power line, and that there were no emissions other than those associated with a digital device.²⁷ Contrary to this evidence, however, the test report described the equipment being tested as an “RF Jammer”, and apparently this description was erroneously reproduced in the “Notes” section of the equipment certification.²⁸

²⁰ The equipment certification under FCC ID No. XRLTG-VIPJAMM was granted to Shenzhen on October 20, 2009. See https://fjallfoss.fcc.gov/oetcf/eas/reports/GenericSearch.cfm.

²¹ As the grantee of the certification issued under FCC ID No. XRLTG-VIPJAMM, Shenzhen is the party responsible for ensuring that the device complies with all applicable regulations. See 47 CFR 2.909(a).

²² A Telecommunications Certification Body (“TCB”) is a private entity designated by the Commission to approve equipment subject to certification. TCBs, which are accredited by the National Institute of Standards and Technology, process equipment certification applications to determine whether the product meets the Commission's requirements and, if so, issue a written grant of equipment authorization. See 47 CFR 2.960, 2.962.

²³ A peripheral device is [a]n input/output unit of a system that feeds data into and/or receives data from the central processing unit of a digital device. Peripherals to a digital device include any device that is connected external to the digital device, any device internal to the digital device that connects the digital device to an external device by wire or cable, and any circuit board designed for interchangeable mounting, internally or externally, that increases the operating or processing speed of a digital device, e.g., `turbo' cards and `enhancement' boards. Examples of peripheral devices include terminals, printers, external floppy disk drives and other data storage devices, video monitors, keyboards, interface boards, external memory expansion cards, and other input/output devices that may or may not contain digital circuitry.

47 CFR 15.3(r).

²⁴ “JBP” is the equipment class code assigned by the Commission to designate Part 15 Class B Computing Device Peripherals on FCC Form 731, Application for Equipment Authorization. See https://fjallfoss.fcc.gov/oetcf/eas/index.cfm.

²⁵ Shenzhen Tangreat Technology Co., Ltd., Application for Equipment Authorization FCC Form 731 TCB Version.

²⁶ Shenzhen BST Technology Co., Ltd., a test laboratory authorized to perform certification testing pursuant to section 2.948 of the Rules, 47 CFR 2.948, conducted the test and prepared the test report. See https://fjallfoss.fcc.gov/oetcf/eas/reports/ViewExhibitReport.cfm?mode=Exhibits&RequestTimeout=500&calledFromFrame=N&application_id=754164&fcc_id='XRLTG-VIPJAMM'.

²⁷ See id.

²⁸ See FCC ID No. XRL-TGVIPJAMM, at https://fjallfoss.fcc.gov/oetcf/eas/reports/GenericSearch.cfm. On September 30, 2010, OET conformed the certification issued under FCC ID No. XRLTG-VIPJAMM to reflect the actual device that was submitted for testing, substituting “Computer peripheral for preprocessing data” for “RF Jammer” under the “Notes” section of the certification.

6. On September 7, 2010, OET sent a letter to the TCB that issued the grant of certification under FCC ID No. XRLTG-VIPJAMM, seeking information as to whether the device was in fact an intentional radiator ²⁹ and an illegal jammer and requesting an explanation for the conflicting information on the face of the certification.³⁰ In its response, the TCB indicated that the application for the device was marked as a JBP application, which indicates that the device is intended to be used as a Part 15 Class B computing device peripheral.³¹ The TCB noted that after examining the block diagram and schematics originally submitted with the application, it determined that the device appeared to have an accompanying receiver. The TCB further stated that prior to certifying the device, it had sought clarification about this inconsistency and placed a hold on the application.³² The applicant responded by resubmitting the application with revised exhibits that removed the receiver circuitry from the application. The TCB then continued its review of the application in reliance on the applicant's representations, concluding in good faith that the device was strictly a computer peripheral without any receiving or transmitting circuitry.³³ The TCB also stated that it considered the description of the device “RF Jammer” to be a misnomer and therefore proceeded with grant of the application.³⁴

²⁹ An intentional radiator is a “device that intentionally generates and emits radio frequency energy by radiation or induction.” 47 CFR 15.3(o).

³⁰ See Letter from Raymond LaForge, Chief, Auditing and Compliance Branch, Office of Engineering and Technology Laboratory, Federal Communications Commission, to Timco Engineering, Inc. (September 7, 2010).

³¹ See E-mail from Gretchen Greene, Timco Engineering, Inc., to Raymond LaForge, Chief, Auditing and Compliance Branch, Office of Engineering and Technology Laboratory, Federal Communications Commission (September 17, 2010).

³² See id.

³³ See id.

³⁴ See id. In addition, the TCB noted that it requested a surveillance sample of the device from the test lab on July 6, 2010, but did not receive a sample in response to its request. Further, the TCB stated that upon receiving the letter from OET, it advised the test lab of OET's request for further information regarding the device and that the test lab subsequently informed the TCB that it tried to contact Shenzhen, but received no response. See id.

7. On September 9, 2010, OET sent a letter to Shenzhen, the grantee of the certification at issue in this Order, requesting that it provide an explanation within 30 days as to why the application was submitted to the TCB as a JBP application for a Part 15 Class B computing peripheral device, when it appeared to be an intentional radiator that could transmit radio signals.³⁵ On September 16, 2010, OET sent another letter to Shenzhen directing it to submit a sample of the device certified under FCC ID No. XRLTG-VIPJAMM to the OET Laboratory for testing within 30 days.³⁶ To date, Shenzhen has not responded to the letters from OET or submitted the requested sample.

³⁵ See Letter from Raymond LaForge, Chief, Auditing and Compliance Branch, Office of Engineering and Technology Laboratory, Federal Communications Commission, to Junrong Jiang, General Manager, Shenzhen Tangreat Technology Co., Inc. (September 9, 2010). The letter was sent to the e-mail address listed in Shenzhen's equipment authorization application, tangreat@tangreat.com.

³⁶ See Letter from Raymond LaForge, Chief, Auditing and Compliance Branch, Office of Engineering and Technology Laboratory, to Shenzhen Tangreat Technology Co., Inc. (September 16, 2010). Under section 2.945 of the Rules, the Commission may require responsible parties to submit equipment samples in order to determine the extent to which subsequent production of such equipment continues to comply with the data filed by the applicant. 47 CFR 2.945.

8. On November 2, 2010, agents from the Bureau's Atlanta, Georgia Field Office observed a unit of the TxTStopper ™ that had been installed in a vehicle owned by Just Driver Training, a driver's education training school located in Canton, Georgia. Tests conducted by the agents indicated that the TxTStopper ™ is in fact a cellular/PCS jammer and that when installed in a vehicle the TxTStopper ™ is capable of blocking cellular communications initiated from both inside and outside of the vehicle,³⁷ apparently including 9-1-1 and other emergency calls.

³⁷ Field tests indicate that calls are blocked within a 150-foot radius of the vehicle.

III. Discussion

A. Applicable Legal Standard

9. The Commission follows the same procedures in revoking an equipment authorization as it does when revoking a radio station license.³⁸ Pursuant to section 312(c) of the Act, before revoking a radio station license, the Commission must serve the licensee with an order to show cause why an order of revocation should not be issued and must provide the licensee with an opportunity for hearing.³⁹

³⁸ See 47 CFR 2.939(b) (“Revocation of an equipment authorization shall be made in the same manner as revocation of radio station licenses.”).

³⁹ 47 U.S.C. 312(c).

10. Section 2.939(a)(1) of the Rules authorizes the Commission to revoke any equipment authorization for “false statements or representations made either in the application or in materials or response submitted in connection therewith.” ⁴⁰ Section 2.939(a)(2) of the Rules, moreover, provides that the Commission may revoke any equipment authorization “[i]f upon subsequent inspection or operation it is determined that the equipment does not conform to the pertinent technical requirements or to the representations made in the original application.” ⁴¹ Section 2.939(a)(3) of the Rules also authorizes revocation “[i]f it is determined that changes have been made in the equipment other than those authorized by the rules or otherwise expressly authorized by the Commission.” ⁴² Furthermore, section 2.939(a)(4) of the Rules provides that the Commission may revoke an equipment authorization upon discovery of conditions which would warrant its refusal to grant an original application.⁴³ This Order to Show Cause is predicated on Shenzhen's apparent willful and repeated violation of the Act and the Rules, including evidence that the original application for certification was tainted by misrepresentations and/or that unauthorized changes were made to the TxTStopper ™ device post-certification.

⁴⁰ 47 CFR 2.939(a)(1).

⁴¹ Id. sec. 2.939(a)(2).

⁴² Id. sec. 2.939(a)(3).

⁴³ Id. sec. 2.939(a)(4).

11. Grant of an application for equipment certification is governed by section 2.915 of the Rules, which requires that the grant serve the public interest and that the device comply with the pertinent technical rules, in this case, sections 2.803(a), 2.931, and 15.201.⁴⁴ Section 333 of the Act, moreover, states that “[n]o person shall willfully or maliciously interfere with or cause interference to any radio communications of any station licensed or authorized by or under this Act or operated by the United States Government.” ⁴⁵ In addition, section 302(b) of the Act provides that “[n]o person shall manufacture, import, sell, offer for sale, or ship devices or home electronic equipment and systems, or use devices, which fail to comply with regulations promulgated pursuant to this section.” ⁴⁶ Section 2.803(a)(1) of the Commission's implementing regulations provides that:

⁴⁴ Id. sec. 2.803, 2.915, 2.931, 15.201.

⁴⁵ 47 U.S.C. 333.

⁴⁶ Id. sec. 302a(b).

no person shall sell or lease, or offer for sale or lease (including advertising for sale or lease), or import, ship, or distribute for the purpose of selling or leasing or offering for sale or lease, any radio frequency device unless * * * [i]n the case of a device subject to certification, such device has been authorized by the Commission in accordance with the rules in this chapter and is properly identified and labeled as required by section 2.925 and other relevant sections in this chapter.⁴⁷

⁴⁷ 47 CFR 2.803(a)(1).

Additionally, section 2.803(g) of the Rules provides in relevant part that:

radio frequency devices that could not be authorized or legally operated under the current rules * * * shall not be operated, advertised, displayed, offered for sale or lease, sold or leased, or otherwise marketed absent a license issued under part 5 of this chapter or a special temporary authorization issued by the Commission.⁴⁸

⁴⁸ Id. sec. 2.803(g).

Pursuant to section 15.201(b) of the Rules,⁴⁹ before intentional radiators ⁵⁰ can be marketed in the United States, they must be authorized in accordance with the Commission's certification procedures. Radio frequency jammers, however, are a type of intentional radiator that cannot be lawfully certified because the main purpose of a jammer is to block or interfere with radio communications in violation of section 333 of the Act.

⁴⁹ Id. sec. 15.201(b).

⁵⁰ See supra note 29 defining “intentional radiator.”

12. Furthermore, under section 2.907(b) of the Rules, a certification attaches to all units subsequently marketed by the grantee which are identical to the sample tested except for permissive changes or other variations authorized by the Commission.⁵¹ Section 2.931 of the Rules provides that “[i]n accepting a grant of equipment authorization, the grantee warrants that each unit of equipment marketed under such grant and bearing the identification specified in the grant will conform to the unit that was measured and that the data * * * filed with the application for certification continues to be representative of the equipment being produced under such grant * * *” ⁵² Accordingly, devices that are not identical to the sample tested as part of an application for certification are not covered by the grant of certification and may not lawfully be marketed in the United States.

⁵¹ 47 CFR 2.907(b).

⁵² Id. sec. 2.931.

B. Analysis of Relevant Facts

13. First, revocation is apparently warranted under section 2.939(a)(4) of the Rules, based on facts that have come to light, which had they been known to the Commission would have precluded the original grant. As detailed above and based on the field tests conducted by Bureau staff, the TxTStopper ™—the device apparently being marketed under FCC ID No. XRLTG-VIPJAMM—can prevent anyone in a vehicle in which it is installed from making or receiving cell phone calls or sending or receiving text messages or e-mails on a cell phone, and also can block calls made from outside the vehicle, apparently including 9-1-1 and other emergency calls.⁵³ Thus, this device is a radio frequency jammer, which interferes with or blocks authorized radio signals in violation of section 333 of the Act and cannot be authorized or marketed in the United States under section 302(b) of the Act and section 2.803 of the Rules.⁵⁴

⁵³ See supra n.37 (noting that calls are blocked within a 150-foot radius of the vehicle). The importance of preserving public safety and emergency communications free of jamming signals cannot be overstated and is reflected in the Commission's investigations and enforcement actions in this area. See, e.g., Phonejammer.com, Notice of Apparent Liability for Forfeiture, 25 FCC Rcd 3827 (Enf. Bur. Apr. 20, 2010) (initiating a $25,000 forfeiture proceeding against the company for marketing jammers designed to interfere with cellular and “PCS” utilized by St. Lucie County, Florida Sheriff's Office); Everybuying.com, Citation, DA 10-2295 (Enf. Bur. Dec. 6, 2010) (citing the company for marketing both cell phone signal and Global Positioning System (“GPS”) signal blocker devices, and noting that GPS signal blockers operate within restricted frequency bands listed in Section 15.205(a) of the Rules); Jammerworld.com, Citation, DA 10-2240, 2010 WL 4808497 (Enf. Bur. Nov. 26, 2010) (citing the company for marketing a device that jams signals in the Cell Phone Band (845-975 MHz), PCS Band (1800-1996 MHz), and GPS L1 frequency 1575.42 MHz); Victor McCormack, phonejammer.com, Citation, DA 10-1975 (Enf. Bur. Oct. 14, 2010) (citing the company for misrepresentations made during the course of an investigation of Phonejammer.com's sale of jammer devices); Anoy Wray, Notice of Unlicensed Operation, Document Number W201032380068 (Enf. Bur., May 18, 2010) (citing Mr. Wray for using radio transmitting device designed to jam GPS transmissions); Gene Stinson d.b.a. D&G Food Mart, Notice of Unauthorized Operation and Interference to Licensed Radio Stations, Document Number W200932500003 (Enf. Bur. Aug. 13, 2009) (citing the company for use of two radio transmitting devices designed to jam licensed radio communications transmission in the 850-894 MHz and other licensed frequency bands used by City of Oklahoma City Radio System).

⁵⁴ 47 U.S.C. 302a(b), 333; 47 CFR 2.803.

14. Second, revocation is apparently warranted under sections 2.939(a)(1)-(3) of the Rules, given the apparent misrepresentations in the application and related materials, the substantial differences between the device that was approved under FCC ID No. XRLTG-VIPJAMM and the device that has been marketed as the TxTStopper ™ under this FCC ID, and the unauthorized changes that apparently were made to the device.⁵⁵ The evidence indicates that the device marketed under FCC ID No. XRLTG-VIPJAMM is an intentional radiator with a transmitter circuit designed to block, jam, or otherwise interfere with radio communications. In addition, the information submitted by the grantee in the application for the device certified under FCC ID No. XRLTG-VIPJAMM misled the certification body and caused them to conclude the opposite—that the device is an unintentional radiator, a Part 15 Class B computer peripheral.⁵⁶ Specifically, the Commission's review of the test report and other data submitted with the application indicates that the device approved under FCC ID No. XRLTG-VIPJAMM was tested when connected to a personal computer and the AC power line (rather than in a motor vehicle) and that it did not have any circuitry for receiving or transmitting radio signals. By contrast, the TxTStopper ™ device that is being marketed by Share Enterprises under FCC ID No. XRLTG-VIPJAMM is clearly intended for use in a motor vehicle and is apparently powered by the car battery.⁵⁷ Accordingly, it appears that the device marketed under FCC ID No. XRLTG-VIPJAMM is not identical to the sample tested as part of the application for certification, nor does it conform to the representations made in the original applications. Therefore, it cannot legally be marketed under section 302(b) of the Act and sections 2.803, 2.907(b) and 2.931 of the Rules.⁵⁸

⁵⁵ 47 CFR 2.939(a)(1)-(3).

⁵⁶ See id. sec. 15.101-15.124.

⁵⁷ According to the txtstopper.com Web site, TxTStopper ™ is “a simple 12v device and is easily installed in less than 1 hour by your local professional car stereo/auto alarm technician.” http://www.txtstopper.com/cms/content/faqs (visited June 29, 2010 and October 18, 2010).

⁵⁸ 47 U.S.C. 302a(b); 47 CFR 2.803, 2.907(b), 2.931.

15. Based on the foregoing, it appears (a) that the Commission would be warranted in refusing to grant an original application for equipment authorization for the device certified under FCC ID No. XRLTG-VIPJAMM; ⁵⁹ (b) that false statements or representations may have been made either in the application or supporting materials for the device certified under FCC ID No. XRLTG-VIPJAMM; ⁶⁰ (c) that the device marketed under FCC ID No. XRLTG-VIPJAMM does not conform to the pertinent technical requirements or to the representations made in the original application; ⁶¹ and/or (d) that changes have been made to the device other than those authorized by the rules or otherwise expressly authorized by the Commission.⁶² In sum, a substantial and material question of fact exists as to whether the device in question should have been certified.

⁵⁹ See 47 CFR 2.939(a)(4).

⁶⁰ See id. sec. 2.939(a)(1).

⁶¹ See id. sec. 2.939(a)(2).

⁶² See id. sec. 2.939(a)(3).

16. The Commission has repeatedly sought from the manufacturer additional information that would counter or explain the evidence. Shenzhen has not responded, as the Act and our Rules require,⁶³ to any of the Commission's requests. Shenzhen's failure to respond to the initial OET letter directing the company to provide information regarding the device constitutes an apparent violation of a Commission order.⁶⁴ Numerous Commission decisions have reaffirmed the Commission's authority to investigate potential misconduct and punish those that disregard FCC inquiries.⁶⁵ Likewise, Shenzhen's failure to comply with OET's directive to provide a sample of the device being marketed under FCC ID No. XRLTG-VIPJAMM apparently violates sections 2.936 and 2.946 of the Rules.⁶⁶ Pursuant to section 2.936 of the Rules, a responsible party must, upon reasonable request from the Commission, submit a sample unit of the equipment covered under an authorization.⁶⁷ Similarly, pursuant to section 2.945 of the Rules, the Commission may request a responsible party such as Shenzhen to submit equipment “to determine the extent to which subsequent production of such equipment continues to comply with the data filed by the applicant.” ⁶⁸ Under section 2.946 of the Rules, “[a]ny responsible party * * * shall provide test sample(s) or data upon request by the Commission” and “[f]ailure to comply with such a request within 14 days may be cause for forfeiture.” ⁶⁹ Shenzhen's silence serves only to reinforce the substantial questions that have been raised regarding whether the TxTStopper ™ device marketed under FCC ID No. XRLTG-VIPJAMM is identical to the device actually approved under that FCC ID.

⁶³ The Commission has broad investigatory authority under Sections 4(i), 4(j), and 403 of the Act, its rules, and relevant precedent. Section 4(i) authorizes the Commission to “issue such orders, not inconsistent with this Act, as may be necessary in the execution of its functions.” 47 U.S.C. 154(i). Section 4(j) states that “the Commission may conduct its proceedings in such manner as will best conduce to the proper dispatch of business and to the ends of justice.” Id. sec. 154(j). Section 403 grants the Commission “full authority and power at any time to institute an inquiry, on its own motion, in any case and as to any matter * * * relating to the enforcement of any of the provisions of this Act.” Id. sec. 403.

⁶⁴ See id. sec. 503(b)(1)(B).

⁶⁵ See, e.g., SBC Communications Inc., Forfeiture Order, 17 FCC Rcd 7589, 7599-7600 (2002) (ordering $100,000 forfeiture for egregious and intentional failure to certify the response to a Bureau inquiry); Fox Television Stations, Notice of Apparent Liability for Forfeiture, 25 FCC Rcd 7074 (Enf. Bur. 2010) (proposing a $25,000 forfeiture for failure to respond to a Bureau letter of inquiry); BigZoo.Com Corporation, Forfeiture Order, 20 FCC Rcd 3954 (Enf. Bur. 2005) (ordering $20,000 forfeiture for failure to respond to a letter of inquiry); Digital Antenna, Inc., Notice of Apparent Liability for Forfeiture and Order, 23 FCC Rcd 7600, 7602 (Spec. Enf. Div., Enf. Bur. 2008) (proposing $11,000 forfeiture for failure to provide a complete response to a letter of inquiry).

⁶⁶ 47 CFR 2.936, 2.946.

⁶⁷ Id. sec. 2.936.

⁶⁸ Id. sec. 2.945.

⁶⁹ Id. sec. 2.946.

17. Accordingly, we are designating this matter for hearing before an Administrative Law Judge to determine whether the equipment authorization held by Shenzhen under FCC ID No. XRLTG-VIPJAMM should be revoked on some or all of the bases outlined herein and whether a Forfeiture Order in an amount not to exceed one hundred and twelve thousand five hundred dollars ($112,500) should be issued.

IV. Ordering Clauses

18. Accordingly, it is ordered that, pursuant to sections 312(a) and (c) of the Act,⁷⁰ and authority delegated pursuant to sections 0.111, 0.311, 1.91(a) and 2.939(b) of the Rules,⁷¹ Shenzhen Tangreat Technology Co., Ltd. is hereby ordered to show cause why its equipment authorization, FCC ID No. XRLTG-VIPJAMM, should not be revoked. Shenzhen shall appear before an Administrative Law Judge at a time and place to be specified in a subsequent order and give evidence upon the following issues:

⁷⁰ 47 U.S.C. 312(a), (c).

⁷¹ 47 CFR 0.111, 0.311, 1.91(a), 2.939(b).

(a) To determine whether the device marketed under FCC ID No. XRLTG-VIPJAMM is capable of interfering with or blocking authorized radio signals in violation of section 333 of the Act and therefore cannot legally be authorized or marketed under section 302(b) of the Act and section 2.803 of the Rules;

(b) To determine whether the device marketed under FCC ID No. XRLTG-VIPJAMM is not identical to the device authorized under FCC ID No. XRLTG-VIPJAMM and therefore cannot legally be marketed under section 302(b) of the Act and sections 2.803, 2.907(b), and 2.931 of the Rules;

(c) To determine whether the device marketed under FCC ID No. XRLTG-VIPJAMM does not conform to the pertinent technical requirements or to the representations made in the original application (see section 2.939(a)(2));

(d) To determine whether changes were made to the device certified under equipment authorization FCC ID No. XRLTG-VIPJAMM other than those authorized by the rules or otherwise expressly authorized by the Commission (see section 2.939(a)(3));

(e) To determine whether Shenzhen made false statements or representations either in the application or in materials submitted in connection therewith (see section 2.939(a)(1));

(f) To determine whether the Commission would be warranted in refusing to grant an original application for equipment authorization for the device certified under FCC ID No. XRLTG-VIPJAMM (see section 2.939(a)(4));

(g) To determine whether Shenzhen willfully violated sections 2.936 and 2.946 of the Rules by failing to provide a test sample of the device being marketed under FCC ID No. XRLTG-VIPJAMM upon request by the Commission, and otherwise willfully failed to respond to a Commission request for information regarding the device; and

(h) To determine, in light of the evidence adduced pursuant to the foregoing issues, whether the equipment authorization held by Shenzhen under FCC ID No. XRLTG-VIPJAMM should be revoked.

19. It is further ordered that, irrespective of the resolution of the foregoing issues, it shall be determined, pursuant to section 503(b)(3)(A) of the Act, 47 U.S.C. 503(b)(3)(A), and section 1.80 of the Rules, 47 CFR 1.80, whether a Forfeiture Order in an amount not to exceed one hundred and twelve thousand five hundred dollars ($112,500) shall be issued against Shenzhen Tangreat Technology Co., Ltd. for willfully and/or repeatedly violating sections 302(b) and 333 of the Act and sections 2.803, 2.907(b), 2.931, 2.932, 2.936 and 2.946 of the Rules.⁷²

⁷² 47 U.S.C. 302a(b), 333; 47 CFR 2.803, 2.907(b), 2.931, 2.932, 2.936, 2.946.

20. It is further ordered that, in connection with the possible forfeiture liability noted above, this document constitutes notice of an opportunity for hearing, pursuant to section 503(b)(3)(A) of the Act and section 1.80 of the Rules.

21. It is further ordered that, pursuant to section 312(c) of the Act and sections 1.91(c) and 2.939(b) of the Rules,⁷³ to avail itself of the opportunity to be heard and to present evidence at a hearing in this proceeding, Shenzhen, in person or by an attorney, shall file with the Commission, within thirty (30) days of the release of this Order to Show Cause, a written appearance stating that it will appear at the hearing and present evidence on the issues specified above.

⁷³ 47 U.S.C. 312(c); 47 CFR 1.91(c), 2.939(b).

22. It is further ordered that, pursuant to section 312(c) of the Act and sections 1.92(c) and 2.939(b) of the Rules,⁷⁴ if Shenzhen fails to file a timely notice of appearance within the thirty (30) day period, or has not filed a petition to accept, for good cause shown, a written appearance beyond the expiration of the thirty (30)-day period, its right to a hearing shall be deemed to be waived. In the event that Shenzhen waives its right to a hearing, the presiding Administrative Law Judge shall, at the earliest practicable date, issue an order reciting the events or circumstances constituting a waiver of hearing, terminating the hearing proceeding, and certifying the case to the Commission.

⁷⁴ 47 U.S.C. 312(c); 47 CFR 1.92(c), 2.939(b).

23. It is further ordered that the Chief, Enforcement Bureau, shall be made a party to this proceeding without the need to file a written appearance.⁷⁵

⁷⁵ See 47 CFR 0.111(b).

24. It is further ordered that, pursuant to section 312(d) of the Act and sections 1.91(d) and 2.939(b) of the Rules,⁷⁶ the burden of proceeding with the introduction of evidence and the burden of proof with respect to the issues specified above shall be on the Chief, Enforcement Bureau.

⁷⁶ See 47 U.S.C. 312(d); 47 CFR 1.91(d), 2.939(b).

25. It is further ordered that a copy of this Order to Show Cause shall be sent by first class mail, overnight mail, facsimile and e-mail, to Junrong Jiang, General Manager, Shenzhen Tangreat Technology Co., Ltd., 4th Floor, R&D Building, Dacheng Industry, Jihua Road, Bantian, Shenzhen, 518129, China, 86-755-82527821 (facsimile), tangreat@tangreat.com (e-mail).

26. It is further ordered that a copy of this Order to Show Cause, or a summary thereof, shall be published in the Federal Register.

Federal Communications Commission.
P. Michele Ellison,
Chief, Enforcement Bureau.

[FR Doc. 2011-5221 Filed 3-7-11; 8:45 am]

BILLING CODE 6712-01-P